DEPARTMENT OF AGRICULTURE

Rural Business—Cooperative Service

Inviting Applications for Rural Business Opportunity Grants

AGENCY: Rural Business—Cooperative Service, USDA.

ACTION: Notice to extend deadline date.

SUMMARY: The Rural Business—Cooperative Service (RBS) announces that the deadline for receipt of applications in the State Office has been extended to April 30, 2009.

SUPPLEMENTARY INFORMATON: RBS published a Notice of Funds Availability (NOFA) on March 12, 2009, stating a deadline of March 31, 2009, for applications for the Rural Business Opportunity Grant (RBOG) program. Due to the delay in publication of the NOFA in the Federal Register, this deadline does not allow potential applicants sufficient time to submit completed applications. Therefore, the deadline for receipt of applications in the respective Rural Development State Offices is extended to April 30, 2009, to allow applicants sufficient time to apply for and obtain leverage financing.

Dated: April 7, 2009.
Pat Fiala,
Acting Administrator, Rural Business—Cooperative Service.

[FR Doc. E9-8316 Filed 4-10-09; 8:45 am]

BILLING CODE 3410-XY-P